DEPARTMENT OF COMMERCE

International Trade Administration

[A-570-832]

Pure Magnesium From the People's Republic of China: Extension of Time Limit for the Preliminary Results of the Antidumping Duty Administrative Review

AGENCY: Import Administration, International Trade Administration, Department of Commerce.

DATES: Effective Date: January 10, 2011.

FOR FURTHER INFORMATION CONTACT: Eve Wang, AD/CVD Operations, Office 8, Import Administration, International Trade Administration, U.S. Department of Commerce, 14th Street and Constitution Avenue, NW., Washington, DC 20230; telephone: (202) 482-6231.

SUPPLEMENTARY INFORMATION

Background

On May 3, 2010, the Department of Commerce (“the Department”) published in the Federal Register a notice for opportunity to request an administrative review of the antidumping duty order on pure magnesium from the People's Republic of China (“PRC”). See Antidumping or Countervailing Duty Order, Finding, or Suspended Investigation; Opportunity To Request Administrative Review, 75 FR 23236 (May 3, 2010). Respondent, Tianjin Magnesium International Co., Ltd. (“TMI”), requested a review on May 26, 2010. Petitioner, US Magnesium LLC (“US Magnesium”), requested a review of TMI on June 1, 2010. The Department published in the Federal Register a notice of initiation of an administrative review of TMI for the period May 1, 2009, through April 30, 2010. See Initiation of Antidumping and Countervailing Duty Administrative Reviews and Requests for Revocation In Part, 75 FR 37759 (June 30, 2010). Currently, the preliminary results of review are due no later than January 30, 2011.¹

¹ Because January 30, 2011, falls on a Sunday, a non-business day, the current deadline for the preliminary results will be due no later than January 31, 2011, the next business day.

Extension of Time Limit of Preliminary Results

Pursuant to section 751(a)(3)(A) of the Tariff Act of 1930, as amended (“the Act”), the Department shall make a preliminary determination in an administrative review of an antidumping duty order within 245 days after the last day of the anniversary month of the date of publication of the order. The Act further provides, however, that the Department may extend that 245-day period to 365 days if it determines it is not practicable to complete the review within the foregoing time period.

We determine that completion of the preliminary results of this review within the 245-day period is not practicable because the Department requires additional time to analyze information pertaining to the respondent's sales practices, factors of production, to review responses to questionnaires, and to issues supplemental questionnaires. Therefore, we require additional time to complete these preliminary results. As a result, in accordance with section 751(a)(3)(A) of the Act, the Department is extending the time period for completion of the preliminary results of this review by 120 days until May 31, 2011.

This notice is published in accordance with sections 751(a)(3)(A) and 777(i) of the Act.

Dated: January 4, 2011.
Christian Marsh,
Deputy Assistant Secretary for Antidumping and Countervailing Duty Operations.

[FR Doc. 2011-273 Filed 1-7-11; 8:45 am]

BILLING CODE 3510-DS-P